DEPARTMENT OF LABOR

Employment and Training Administration

[TA-W-56,140]

Woodbridge Corporation, Whitmore Lake, MI; Notice of Termination of Investigation

Pursuant to Section 221 of the Trade Act of 1974, an investigation was initiated on December 6, 2004 in response to a worker petition which was filed by the Michigan Trade Program Analyst on behalf of workers at Woodbridge Corporation, Whitmore Lake, Michigan.

The petitioner has requested that the petition be withdrawn. Consequently, the investigation has been terminated.

Signed in Washington, DC, this 9th day of December, 2004.
Elliott S. Kushner,
Certifying Officer, Division of Trade Adjustment Assistance.

[FR Doc. E5-243 Filed 1-21-05; 8:45 am]

BILLING CODE 4510-30-P